DEPARTMENT OF ENERGY

Federal Energy Regulatory Commission

[Docket Nos. IC11-1-000 and IC11-1F-000]

Commission Information Collection Activities (FERC-1 and FERC-1F); Comment Request; Submitted for OMB Review

AGENCY: Federal Energy Regulatory Commission.

ACTION: Notice.

SUMMARY: In compliance with the requirements of section 3507 of the Paperwork Reduction Act of 1995, 44 U.S.C. 3507, the Federal Energy Regulatory Commission (Commission or FERC) is submitting the information collections described below to the Office of Management and Budget (OMB) for review of the information collections requirements. Any interested person may file comments directly with OMB and should address a copy of those comments to the Commission as explained below. The Commission issued a Notice in the Federal Register (76 FR 46781, 10/3/2011) requesting public comments. FERC received one comment on the FERC-1 and the FERC-1F and has provided a response in this notice as well as in its submission to OMB.

DATES: Comments on the collection of information are due by November 28, 2011.

ADDRESSES: Address comments on the collection of information to the Office of Management and Budget, Office of Information and Regulatory Affairs, Attention: Federal Energy Regulatory Commission Desk Officer. Comments to Created by OMB should be filed electronically, c/o oira__submission@omb.eop.gov and include OMB Control Numbers 1902-0021 (for FERC-1) and 1902-0029 (for FERC-1F) as a point of reference. For comments that pertain to only one of the collections, specify the appropriate collection and OMB Control Number. The Desk Officer may be reached by telephone at (202) 395-4718.

A copy of the comments should also be sent to: Federal Energy Regulatory Commission, Secretary of the Commission, 888 First Street, NE., Washington, DC 20426. Comments may be filed either on paper or on CD/DVD, and should refer to Docket Nos. IC11-1-001 and IC11-1F as appropriate. Documents must be prepared in an acceptable filing format and in compliance with Commission submission guidelines at http://www.ferc.gov/help/submission-guide.asp. eFiling and eSubscription are not available for Docket No. IC11-1F-001, due to a system issue, but are available for Docket No. IC11-1-001.

All comments may be viewed, printed or downloaded remotely via the Internet through FERC's homepage using the “eLibrary” link. For user assistance, contact ferconlinesupport@ferc.gov or toll-free at (866) 208-3676, or for TTY, contact (202) 502-8659.

FOR FURTHER INFORMATION CONTACT: Ellen Brown may be reached by email at DataClearance@FERC.gov, by telephone at (202) 502-8663, and by fax at (202) 273-0873.

SUPPLEMENTARY INFORMATION: In accordance with sections 304 and 309 of the Federal Power Act, FERC is authorized to collect and record data to the extent it considers necessary, and to prescribe rules and regulations concerning accounts, records and memoranda. The Commission may prescribe a system of accounts for jurisdictional companies and after notice and an opportunity for hearing may determine the accounts in which particular outlays and receipts will be entered, charged or credited.

The Form No. 1 is a comprehensive financial and operating report submitted for electric rate regulation and financial audits. Major is defined as having (1) one million Megawatt hours or more; (2) 100 megawatt hours of annual sales for resale; (3) 500 megawatt hours of annual power exchange delivered; or (4) 500 megawatt hours of annual wheeling for others (deliveries plus losses).

FERC Form 1-F is designed to collect financial and operational information from non-major public utilities and licensees. Non-major is defined as having total annual sales of 10,000 megawatt-hours or more in the previous calendar year and not classified as Major. The Commission collects Form Nos. 1 and 1-F information as prescribed in 18 CFR 141.1 and 141.2.

Under the existing regulations FERC jurisdictional entities subject to its Uniform System of Accounts ¹ must annually (quarterly for the 3Q) file with the Commission a complete set of financial statements, along with other selected financial and non financial data through the submission of FERC Forms 1, 1-F, and 3Q.² The FERC Annual/Quarterly Report Forms provide the Commission, as well as others, with an informative picture of the jurisdictional entities financial condition along with other relevant data that is used by the Commission, as well as others, in making economic judgments about the entity or its industry.

¹ See 18 CFR part 201.

² The FERC Form 3Q data collection (OMB Control No. 205) is not being renewed as part of this proceeding. Some information regarding the Form 3Q is included here as it relates to the FERC Forms 1 and 1F.

The information collected in the forms is used by Commission staff, state regulatory agencies and others in the review of the financial condition of regulated companies. The information is also used in various rate proceedings, industry analyses and in the Commission's audit programs and as appropriate, for the computation of annual charges based on certain schedules contained on the forms. The Commission provides the information to the public, interveners and all interested parties to assist in the proceedings before the Commission.

Additionally, the uniformity of information helps to present accurately the entity's financial condition and produces comprehensive data related to the entity's financial history helping to act as a guide for future action. The uniformity provided by the Commission's chart of accounts and related accounting instructions permits comparability and financial statement analysis of data provided by jurisdictional entities. Comparability of data and financial statement analysis for a particular entity from one period to the next, or between entities, within the same industry, would be difficult to achieve if each company maintained its own accounting records using dissimilar accounting methods and classifications to record similar transactions and events.

The FERC Annual Report Forms provide the Commission, as well as others, with an informative picture of the jurisdictional entities' financial condition along with other relevant data that is used by the Commission in making economic judgments about the entity or its industry. For financial information to be useful to the Commission, it must be understandable, relevant, reliable and timely.

Public Comment and Commission Response

The Commission received one comment from the Bureau of Economic Analysis (BEA) in regards to the Forms Nos. 1 and 1-F. In that comment, BEA requests additional reporting in Forms Nos. 1 and 1-F. BEA relies on this data collection for its analysis. In response, the Commission intends to work with BEA should there be a need to make any changes to this data collection.

ACTION: The Commission is requesting a three-year extension of the FERC Forms 1 and 1F reporting requirements, with no changes to the forms.

Burden Statement: The estimated annual public reporting burden is reflected in the following table:

Data collection | Number of respondents annually | Number of responses per respondent | Average burden hours per response | Total annual burden hours
| (1) | (2) | (3) | (1) × (2) × (3)
Form 1 | 209 | 1 | 1,162 | 242,858
Form 1F | 5 | 1 | 116 | 580
Total |  |  |  | 243,438

The total estimated annual cost burden to respondents on the FERC Form 1 is $12,385,758 (242,858 hours × $51/hour ³). The average cost per respondent is $59,262.

³ The per hour figures were obtained from the Bureau of Labor Statistics National Industry-Specific Occupational and Employment Wage Estimates (http://www.bls.gov/oes/current/naics4_221100.htm), and are based on the mean wage statistics for staff in the areas of management, business and financial, legal and administrative. The mean wage was then increased by 20% to account for benefits/overhead.

The total estimated annual cost burden to respondents on the FERC Form 1F is $29,580 (580 hours × $51/hour ³). The average cost per respondent is $5,916.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collections of information; and (7) transmitting or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimate of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology (e.g. permitting electronic submission of responses).

Dated: October 20, 2011.
Kimberly D. Bose,
Secretary.

[FR Doc. 2011-27828 Filed 10-26-11; 8:45 am]

BILLING CODE 6717-01-P